DEPARTMENT OF DEFENSE

Department of the Navy

[Docket ID USN-2022-HQ-0013]

Proposed Collection; Comment Request

AGENCY: Department of the Navy, Department of Defense (DoD).

ACTION: 60-Day information collection notice.

SUMMARY: In compliance with the Paperwork Reduction Act of 1995, the United States Marine Corps announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by June 28, 2022.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Attn: Mailbox 24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Marine and Reserve Affairs, Marine and Family Programs, 3280 Russell Rd, Quantico, VA 22134, ATTN: Dr. Corey Pavlich, or call 703-432-9062.

SUPPLEMENTARY INFORMATION:

Title; Associated Form; and OMB Number: U.S. Marine Corps Suicide Prevention Stakeholder Survey; OMB Control Number 0703-SPSS.

Needs and Uses: Marine and Reserve Affairs, Marine and Family Programs is evaluating its Suicide Prevention Capability. One component of this effort involves gathering information from various stakeholders who contribute directly or indirectly to suicide prevention efforts in the U.S. Marine Corps (USMC). Stakeholders will be asked about priorities in suicide prevention, job duties related to suicide prevention, communication with other stakeholders, and perceived successes and perceived barriers in suicide prevention. The USMC Suicide Prevention Stakeholder Survey will provide information vital for continuous process improvement. Information collected from this effort will be used to support Marines experiencing critical stressors, identify gaps in the suicide prevention system, and identify best practices and collaboration efforts between suicide prevention stakeholders.

Affected Public: Individuals or households.

Annual Burden Hours: 1,803.75.

Number of Respondents: 7,215.

Responses per Respondent: 1.

Annual Responses: 7,215.

Average Burden per Response: 15 minutes.

Frequency: One-time.

Headquarters Marine Corps will distribute a link to the Stakeholder Survey and invitation email to each command Commanding Officer, who will then forward the link to specified stakeholders including: Suicide Prevention Program Officers, Behavioral Health Branch Heads, Embedded Preventive Behavioral Health Capability (EPBHC) Analysts, Coordinators, or Directors, EPBHC Specialists, Navy Chaplain/Religious Program Assistant, Embedded Mental Health Provider, and Corpsman or Unit Doctors. These individuals can follow the link on any computer or personal media device to the survey hosted on Max Survey. Upon completion of the survey, participants click the submit button and then exit the survey platform. Data will be gathered and stored on MAX Survey's electronic platform. After the data collection period ends, data will be downloaded and stored on a secure shared-drive that requires a CAC-enabled computer, and appropriate user privileges to gain access.

Dated: April 26, 2022.
Aaron T. Siegel,
Alternate OSD Federal Register Liaison Officer, Department of Defense.

[FR Doc. 2022-09284 Filed 4-28-22; 8:45 am]

BILLING CODE 5001-06-P